INTERNATIONAL TRADE COMMISSION

[Investigation No. 731-TA-1013 (Review)]

Saccharin From China

Determination

On the basis of the record ¹ developed in the subject five-year review, the United States International Trade Commission (Commission) determines, pursuant to section 751(c) of the Tariff Act of 1930 (19 U.S.C. 1675(c)), that revocation of the antidumping duty order on saccharin from China would be likely to lead to continuation or recurrence of material injury to an industry in the United States within a reasonably foreseeable time.

¹ The record is defined in sec. 207.2(f) of the Commission's Rules of Practice and Procedure (19 CFR 207.2(f)).

Background

The Commission instituted this review on June 2, 2008 (73 FR 31504) and determined on September 5, 2008 that it would conduct a full review (73 FR 53444, September 16, 2008). Notice of the scheduling of the Commission's review and of a public hearing to be held in connection therewith was given by posting copies of the notice in the Office of the Secretary, U.S. International Trade Commission, Washington, DC, and by publishing the notice in the Federal Register on December 1, 2008 (73 FR 72837). The hearing was held in Washington, DC, on March 26, 2009, and all persons who requested the opportunity were permitted to appear in person or by counsel.

The Commission transmitted its determination in this review to the Secretary of Commerce on May 21, 2009. The views of the Commission are contained in USITC Publication 4077 (May 2009), entitled Saccharin From China: Investigation No. 731-TA-1013 (Review).

By order of the Commission.
Issued: May 27, 2009.
Marilyn R. Abbott,
Secretary to the Commission.

[FR Doc. E9-12633 Filed 5-29-09; 8:45 am]

BILLING CODE 7020-09-P